DEPARTMENT OF ENERGY

Federal Energy Regulatory Commission

Notice of Settlement Agreement and Soliciting Comments

April 14, 2003.

Take notice that the following settlement agreement has been filed with the Commission and is available for public inspection.

a. Type of Application: Settlement agreement.

b. Project No.: P-12379.

c. Date filed: March 24, 2003.

d. Applicant: Lake Dorothy Hydro, Inc.

e. Name of Project: Lake Dorothy Hydroelectric Project.

f. Location: On 1,804 acres administered by the Tongass National Forest, at Lake Dorothy on Dorothy Creek, near Juneau, Alaska. Township 42S, Range 69E and 70E, Copper River Meridian.

g. Filed Pursuant to: Rule 602 of the Commission's rules of practice and procedure, 18 CFR 385.602.

h. Applicant Contact: Mr. Corry V. Hildenbrand, President, Lake Dorothy Hydro, Inc., 5601 Tonsgard Court, Juneau, AK 99801-7201, (907) 463-6315; and Ms. Susan Tinney, Licensing Coordinator, S. Tinney Associates, Inc., P.O. Box 985, Lake City, CO 81235, (970) 944-1020.

i. FERC Contact: Michael H. Henry, E-mail—mike.henry@ferc.gov or telephone (503) 552-2762.

j. Deadline for filing comments: May 5, 2003. Reply comments due May 15, 2003.

All documents (original and eight copies) should be filed with: Magalie R. Salas, Secretary, Federal Energy Regulatory Commission, 888 First Street, NE., Washington, DC 20426.

The Commission's rules of practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “e-Filing” link.

k. Description of Filing: The Alaska Department of Fish and Game filed the Offer of Settlement on behalf of itself and Lake Dorothy Hydro, Inc.. The purpose of the Offer of Settlement concerns the resolution of project operation, fish passage, instream flow requirements and compensatory mitigation for potential impacts to aquatic resources in the Lake Dorothy watershed. The signatories ask the Commission to accept the Offer of Settlement and incorporate the Compensatory Terms of the Settlement Agreement into any license issued for the project.

l. A copy of the settlement agreement is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

Magalie R. Salas,
Secretary.

[FR Doc. 03-9556 Filed 4-17-03; 8:45 am]

BILLING CODE 6717-01-P